DEPARTMENT OF LABOR

Employment and Training Administration

[TA-W-41,327]

MeadWestvaco, Including Leased Workers of Bancroft Contracting, Denali Fire Protection, WF Porter, Mechanical Services, Cinbro Contracting, Es Boulos, CP Technologies, Arbon Equipment and Siemens Business Systems, Rumford, ME; Amended Certification Regarding Eligibility To Apply for Worker Adjustment Assistance

In accordance with section 223 of the Trade Act of 1974 (19 U.S.C. 2273) the Department of Labor issued a Certification of Eligibility to Apply for Worker Adjustment Assistance on June 21, 2002, applicable to workers of MeadWestvaco, Rumford, Maine. The notice was published in the Federal Register on July 9, 2002 (67 FR 45544). The certification was amended on July 9, 2002 to include leased workers of the above-mentioned firms employed at the Rumford, Maine location of the subject firm.

At the request of the petitioners, the Department reviewed the certification for workers of the subject firm. New information shows that some employees of MeadWestvaco were leased from Siemens Business Systems to produce coated groundwood paper, freesheet paper and market pulp at the Rumford, Maine location of the subject firm.

Based on these findings, the Department is again amending the certification to include leased workers of Siemens Business Systems producing coated groundwood paper and freesheet paper and market pulp at the Rumford, Maine location of the subject firm.

The intent of the Department's certification is to include all workers of MeadWestvaco adversely affected by imports.

The amended notice applicable to TA-W-41,327 is hereby issued as follows:

All workers of MeadWestvaco, Rumford, Maine, and leased workers of Bancroft Contracting, Denali Fire Protection, WF Porter, Mechanical Services, Cinbro Contracting, ES Boulos, CP Technologies, Arbon Equipment and Siemens Business Systems, Rumford, Maine, engaged in employment related to the production of coated groundwood and freesheet paper and market pulp at MeadWestvaco, Rumford, Maine, who became totally or partially separated from employment on or after March 22, 2001, through June 21, 2004, are eligible to apply for adjustment assistance under Section 223 of the Trade Act of 1974.

Signed at Washington, DC, this 11th day of February, 2003.
Linda G. Poole,
Certifying Officer, Division of Trade Adjustment Assistance.

[FR Doc. 03-13818 Filed 6-2-03; 8:45 am]

BILLING CODE 4510-30-P